DEPARTMENT OF LABOR

Employment and Training Administration

[TA-W-38, 061]

TRW, Valve Division, Danville, PA; Notice of Revised Determination on Reconsideration

On November 30, 2000, the Department issued an Affirmative Determination Regarding Application on Reconsideration applicable to workers and former workers of the subject firm. The notice will soon be published in the Federal Register.

On October 10, 2000 the Department initially denied TAA to workers of TRW, Value Division, Danville, Pennsylvania producing internal combustion engine valves because the “contributed importantly” group eligibility requirement of Section 222 of the Trade Act of 1974, as amended, was not met.

On reconsideration, the subject firm reported that it recently began importing combustion engine valves to their United States customers.

Conclusion

After careful review of the additional facts obtained on reconsideration, I conclude that increased imports of articles like or directly competitive with combustion engine valves, contributed importantly to the declines in sales or production and to the total or partial separation of workers of TRW, Valve Division, Danville, Pennsylvania. In accordance with the provisions of the Act, I make the following certification:

“All workers of TRW, Valve Division, Danville, Pennsylvania who became totally or partially separated from employment on or after August 23, 1999 through two years of this certification, are eligible to apply for adjustment assistance under section 223 of the Trade Act of 1974.”

Signed in Washington, DC this 11th day of December 2000.
Linda G. Poole,
Certifying Officer, Division of Trade Adjustment Assistance.

[FR Doc. 00-32587 Filed 12-20-00; 8:45 am]

BILLING CODE 4510-30-M